DEPARTMENT OF ENERGY

Federal Energy Regulatory Commission

[Project Nos. 11616-000-Michigan; 2566-010-Michigan]

City of Portland, MI, Consumers Energy Company; Notice of Availability of Final Environmental Assessment

May 3, 2001.

In accordance with the National Environmental Policy Act of 1969 and the Federal Energy Regulatory Commission's (Commission's) regulations, 18 CFR part 380 (Order No. 486, 52 FR 47897), the Office of Energy Projects has reviewed the City of Portland's application for original license for the operating unlicensed Portland Municipal Hydroelectric Project, and Consumers Energy Company's new license for the continued operation of the Webber Hydroelectric Project, located on the Grand River, in the City of Portland, Ionia County, Michigan, and has prepared a Final Environmental Assessment (FEA) for the projects. In the FEA, the Commission's staff has analyzed the potential environmental effects of the projects and has concluded that licensing the projects, with staff's recommended measures, would not constitute a major federal action significantly affecting the quality of the human environment.

Copies of the FEA are available for review in the Public Reference Branch, Room 2-A, of the Commission's offices at 888 First Street, NE., Washington, DC 20426. The DEA may also be viewed on the web at http://www.ferc.fed.us/online/rims.htm. Please call (202) 208-2222 for assistance. If you have any questions regarding this notice, please contact Tom Dean at (202) 219-2778.

David P. Boergers,
Secretary.

[FR Doc. 01-11483 Filed 5-7-01; 8:45 am]

BILLING CODE 6717-01-M